Proclamation 9182 of September 30, 2014

National Energy Action Month, 2014

By the President of the United States of America

A Proclamation

Safeguarding America's energy future is an economic, environmental, and national security imperative. The energy choices we make today will have a substantial impact on the world we leave to our children and grandchildren. By pursuing an aggressive All-of-the-Above energy strategy, we can support economic growth and job creation, enhance energy security, and lay the foundation for a low-carbon energy future. During National Energy Action Month, we embrace our profound obligation to leave generations to come a cleaner, safer, more stable world, and we resolve to stand up, speak out, and fight for the urgent action this pivotal moment in history demands.

Our country's energy sector is undergoing a significant transformation, and today we are closer to energy independence than we have been in decades. The United States generates more renewable energy—from sources like wind and solar power—than ever before, we are the number one natural gas producer in the world, and we are building the first nuclear power plants in over three decades. These gains have brought jobs back to America and created more than 55,000 new jobs. And since I took office, domestic energy-related emissions of carbon dioxide have declined. As our Nation produces more traditional energy and sets the groundwork for the energy sources of the future, our achievements demonstrate that there is no contradiction between a sound environment and a thriving economy.

A low-carbon, clean energy strategy can be an engine of growth for decades to come, but transitioning our economy takes time, and there is more work to do. That is why my Administration has made the largest investment in clean energy in American history, and why I have taken action to ensure our Nation is a leader in the energy sources of tomorrow. We have partnered with businesses that know investing in renewable energy is not only good for the environment, but also for their bottom line, and we are supporting training programs that will help 50,000 workers learn the skills clean energy companies are looking for. The Government is leading the way by deploying renewable energy on public lands and across federally subsidized housing and military installations. And I continue to support incentives for private investment in these energy sources, including Federal financing, which—during my Administration—has brought over $30 billion of capital to the clean energy sector.

As we are advancing low-carbon technologies and developing cleaner fuels, we are also working to promote energy efficiency. Cutting our energy waste is one of the fastest, easiest, and cheapest ways to create jobs, save families money, and reduce our carbon pollution. The buildings we live and work in are responsible for about one-third of our greenhouse gases, and my Better Buildings Challenge is on track to improve the energy efficiency of thousands of multi-family homes, commercial buildings, and industrial plants by 20 percent by the year 2020. We have set new fuel standards for our cars and trucks so they will go twice as far on a gallon of gas by the middle of the next decade and invested billions of dollars in energy upgrades to Federal buildings. We have concrete strategies that are proven to create jobs and reduce emissions, and we must all pledge to do our part.

The threat of climate change requires us to act now. We have a chance to improve public health, protect our environment, and better our world, and the American people have the skills and innovative spirit needed to seize this opportunity. This month, we look forward and boldly declare our intent to rise to the challenge of a changing world. As caretakers of our planet, let us resolve to build a cleaner, more prosperous, and more secure world for all of humanity.

NOW, THEREFORE, I, BARACK OBAMA, President of the United States of America, by virtue of the authority vested in me by the Constitution and the laws of the United States, do hereby proclaim October 2014 as National Energy Action Month. I call upon the citizens of the United States to recognize this month by working together to achieve greater energy security, a more robust economy, and a healthier environment for our children.

IN WITNESS WHEREOF, I have hereunto set my hand this thirtieth day of September, in the year of our Lord two thousand fourteen, and of the Independence of the United States of America the two hundred and thirty-ninth.

[FR Doc. 2014-23869

Filed 10-2-14; 11:15 am]

Billing code 3295-F4